SECURITES AND EXCHANGE COMMISSION

Sunshine Act Meeting

Notice is hereby given, pursuant to the provisions of the Government in the Sunshine Act, Public Law 94-409, that the Securities and Exchange Commission will hold an Open Meeting on Tuesday, September 22, 2015 at 10:00 a.m., in the Auditorium, Room L-002.

The subject matter of the Open Meeting will be:

• The Commission will consider whether to propose a new rule and amendments to certain rules and forms that would provide for liquidity risk management programs and related disclosures for open-end management investment companies.

At times, changes in Commission priorities require alterations in the scheduling of meeting items.

For further information and to ascertain what, if any, matters have been added, deleted, or postponed, please contact: The Office of the Secretary at (202) 551-5400.

Dated: September 15, 2015.
Brent J. Fields,
Secretary.

[FR Doc. 2015-23970 Filed 9-17-15; 11:15 am]

BILLING CODE 8011-01-P